DEPARTMENT OF COMMERCE

National Oceanic and Atmospheric Administration

50 CFR Parts 300 and 660

[Docket No. 240716-0196]

RIN 0648-BN09

Magnuson-Stevens Act Provisions; Fisheries off West Coast States; Tribal Usual and Accustomed Fishing Areas

AGENCY: National Marine Fisheries Service (NMFS), National Oceanic and Atmospheric Administration (NOAA), Commerce.

ACTION: Final rule.

SUMMARY: This final rule implements the order in United States v. Washington that sets forth updated boundaries of the usual and accustomed (U&A) fishing areas of the Hoh Indian Tribe in the Pacific Ocean.

DATES: This final rule is effective July 23, 2024.

ADDRESSES:

Electronic Access—Information relevant to this final rule is accessible via the internet at the NMFS West Coast Region website at: https://www.fisheries.noaa.gov/west-coast.

FOR FURTHER INFORMATION CONTACT: Megan Mackey, phone: 206-526-6140, or email: megan.mackey@noaa.gov.

SUPPLEMENTARY INFORMATION:

Background

Regulations at 50 CFR 660.4 describe the U&A fishing areas of Indian Tribes with treaty fishing rights to species managed under the Magnuson-Stevens Fishery Conservation and Management Act (Magnuson-Stevens Act) and the Northern Pacific Halibut Act of 1982 (Halibut Act, 16 U.S.C. 773c). Those regulations explain that the boundaries of a Tribe's fishing area may be revised as ordered by a Federal court. 50 CFR 660.4(a) and 50 CFR 300.64(i).

Court Order

On November 16, 2023, the United States District Court for the Western District of Washington issued an order setting forth updated boundaries of the U&A fishing area of the Hoh Indian Tribe in the Pacific Ocean, based on a stipulation between the parties. United States v. Washington, C70-9213 RSM (W.D. Wash. Nov. 16, 2023) (Stipulation and Order Regarding Boundaries of Hoh Indian Tribe U&A). This action adjusts the boundary regulations at 50 CFR 660.4(a)(3) for fisheries managed under the Magnuson-Stevens Act and the regulations at 50 CFR 300.64(i) for fisheries managed under the Halibut Act to make them consistent with the court's order. The boundaries for fishing areas for the Tribes with treaty fishing rights in the EEZ must be consistent with Federal court orders describing these areas. Other boundaries and their supporting rationales described in previous rulemakings on other U&A fishing areas are not affected by this rulemaking.

The revised boundaries for the Hoh Indian Tribe U&A are as follows: A polygon commencing at the Pacific coast shoreline near the mouth of the Quillayute River, located at latitude 47°54′30″ north, longitude 124°38′31″ west; then proceeding west approximately forty nautical miles at that latitude to a northwestern point located at latitude 47°54′30″ north, longitude 125°38′18″ west; then proceeding in a southeasterly direction mirroring the coastline at a distance no farther than forty nautical miles from the mainland Pacific coast shoreline, to a point located at latitude 47°31′42″ north, longitude 125°20′26″ west, then proceeding east along that line of latitude approximately ten nautical miles to a point located at latitude 47°31′42″ north, longitude 125°5′48″ west, then proceeding in a southeasterly direction mirroring the coastline at a distance no farther than 30 nautical miles from the mainland Pacific coast shoreline to a point located at latitude 47°21′00″ north, longitude 125°2′52″ west; then proceeding east along that line of latitude to the Pacific coast shoreline near the mouth of the Quinault River, located at latitude 47°21′00″ north, longitude 124°18′8″ west.

Classification

Pursuant to section 305(d) of the Magnuson-Stevens Act and Section 5 of the Halibut Act, the NMFS Assistant Administrator has determined that the regulatory amendments associated with the court-ordered changes to Tribal U&A fishing areas, which this final rule implements, are necessary for conservation and management and are consistent with the Pacific Coast Groundfish Fishery Management Plan, the Magnuson-Stevens Act, the Halibut Act, and other applicable laws.

NMFS finds good cause to waive prior public notice and comment on the revisions to regulations in this final rule under 5 U.S.C. 553(d)(3) because affording the time necessary for notice and comment rulemaking for these changes would be impracticable and contrary to the public interest. The U.S. District Court has issued its final judgment and the boundaries adjudicated by the court are controlling. NMFS regulations must be modified consistent with the court order as quickly as possible to bring them into compliance with the legal requirements. It is further necessary to act quickly to modify the Tribal U&A fishing area boundaries in Title 50, part 660, to prevent confusion arising out of conflicting statements in the regulations and stipulation, which adds complexity to the management regime and could create problems for Tribal, State, and Federal management and enforcement. Furthermore, NMFS is not exercising any discretion in issuing this rule but only making the changes necessary to comply with the court order. For the same reasons, NMFS also finds good cause to waive the 30-day delay in effectiveness.

This final rule has been determined to be not significant for purposes of Executive Order (E.O.) 12866.

Because prior notice and opportunity for public comment are not required for this rule by 5 U.S.C. 553, or any other law, the analytical requirements of the Regulatory Flexibility Act, 5 U.S.C. 601 et seq., are inapplicable.

This final rule contains no information collection requirements under the Paperwork Reduction Act of 1995.

This final rule does not contain policies with federalism or takings implications as those terms are defined in E.O. 13132 and E.O. 12630, respectively.

List of Subjects

50 CFR Part 300

Fish, Fisheries, Fishing, Fishing vessels.

50 CFR Part 660

Fisheries, Fishing, and Indian Fisheries.

Dated: July 16, 2024.
Samuel D. Rauch III,
Deputy Assistant Administrator for Regulatory Programs, National Marine Fisheries Service.

For the reasons set out in the preamble, 50 CFR parts 300 and 660 are amended as follows:

PART 300—INTERNATIONAL FISHERIES REGULATIONS

Subpart E—Pacific Halibut Fisheries

1. The Authority citation for part 300 continues to read as follows:

Authority: 16 U.S.C. 773-773k.

2. In § 300.64, amend table 1 to Paragraph (i) by revising the entry for “HOH” to read as follows:

§ 300.64 Fishing by U.S. treaty Indian tribes.

* * * * *

(i) * * *

Table 1 to Paragraph (i)
Tribe | Boundaries
HOH | A polygon commencing at the Pacific coast shoreline near the mouth of the Quillayute River, located at latitude 47°54′30″ north, longitude 124°38′31″ west; then proceeding west approximately forty nautical miles at that latitude to a northwestern point located at latitude 47°54′30″ north, longitude 125°38′18″ west; then proceeding in a southeasterly direction mirroring the coastline at a distance no farther than forty nautical miles from the mainland Pacific coast shoreline, to a point located at latitude 47°31′42″ north, longitude 125°20′26″ west, then proceeding east along that line of latitude approximately ten nautical miles to a point located at latitude 47°31′42″ north, longitude 125°5′48″ west, then proceeding in a southeasterly direction mirroring the coastline at a distance no farther than thirty nautical miles from the mainland Pacific coast shoreline to a point located at latitude 47°21′00″ north, longitude 125°2′52″ west; then proceeding east along that line of latitude to the Pacific coast shoreline near the mouth of the Quinault River, located at latitude 47°21′00″ north, longitude 124°18′8″ west.
* * * * * * *

PART 660—FISHERIES OFF WEST COAST STATES

3. The authority citation for part 660 continues to read as follows:

Authority: 16 U.S.C. 1801 et seq., 16 U.S.C. 773 et seq., and 16 U.S.C. 7001 et seq.

4. In § 660.4, revise paragraph (a)(3) to read as follows:

§ 660.4 Usual and accustomed fishing areas for Pacific Coast treaty Indian tribes.

(a) * * *

(3) Hoh. A polygon commencing at the Pacific coast shoreline near the mouth of the Quillayute River, located at latitude 47°54′30″ north, longitude 124°38′31″ west; then proceeding west approximately forty nautical miles at that latitude to a northwestern point located at latitude 47°54′30″ north, longitude 125°38′18″ west; then proceeding in a southeasterly direction mirroring the coastline at a distance no farther than forty nautical miles from the mainland Pacific coast shoreline, to a point located at latitude 47°31′42″ north, longitude 125°20′26″ west, then proceeding east along that line of latitude approximately ten nautical miles to a point located at latitude 47°31′42″ north, longitude 125°5′48″ west, then proceeding in a southeasterly direction mirroring the coastline at a distance no farther than thirty nautical miles from the mainland Pacific coast shoreline to a point located at latitude 47°21′00″ north, longitude 125°2′52″ west; then proceeding east along that line of latitude to the Pacific coast shoreline near the mouth of the Quinault River, located at latitude 47°21′00″ north, longitude 124°18′8″ west.

* * * * *

[FR Doc. 2024-16010 Filed 7-22-24; 8:45 am]

BILLING CODE 3510-22-P